ENVIRONMENTAL PROTECTION AGENCY

[FRL-7502-5]

Agency Information Collection Activities OMB Responses

AGENCY: Environmental Protection Agency (EPA).

ACTION: Notices.

SUMMARY: This document announces the Office of Management and Budget's (OMB) responses to Agency clearance requests, in compliance with the Paperwork Reduction Act (44 U.S.C. 3501 et seq.). An agency may not conduct or sponsor, and a person is not required to respond to, a collection of information unless it displays a currently valid OMB control number. The OMB control numbers for EPA's regulations are listed in 40 CFR part 9 and 48 CFR chapter 15.

FOR FURTHER INFORMATION CONTACT: Susan Auby (202) 566-1672, or email at auby.susan@epa.gov and please refer to the appropriate EPA Information Collection Request (ICR) Number.

SUPPLEMENTARY INFORMATION:

OMB Responses to Agency Clearance Requests

OMB Approvals

EPA ICR No. 1891.03; NESHAP for Publicly Owned Treatment Works (POTW) Facilities; was approved 05/01/2003; in 40 CFR part 63, subpart VVV; OMB Number 2060-0428; expires 05/31/2006.

EPA ICR No. 1894.03; NESHAP for Secondary Aluminum Production (Final Rule); was approved 05/01/2003; in 40 CFR part 63, subpart RRR; OMB Number 2060-0433; expires 07/31/2003.

EPA ICR No. 1954.02; NESHAP for Surface Coating of Large Household and Commercial Appliances (Final Rule); was approved 05/01/2003; in 40 CFR part 63, subpart NNNN; OMB Number 2060-0457; expires 05/31/2006.

EPA ICR No. 2034.02; NESHAP for the Wood Building Products Surface Coating Industry (Final Rule); was approved 05/01/2003; in 40 CFR part 63, subpart QQQQ; OMB Number 2060-0510; expires 05/31/2006.

EPA ICR No. 1773.06; NESHAP for Hazardous Waste Combustors; was approved 05/01/2003; in 40 CFR part 63, subpart EEE; OMB Number 2050-0171; expires 05/31/2006.

EPA ICR No. 1541.07; NESHAP: Benzene Waste Operations; was approved 05/01/2003; in 40 CFR part 61, subpart FF; OMB Number 2060-0183; expires 05/31/2006.

Correction

This is to correct expiration date for EPA ICR No. 0663.08, NSPS for Beverage Can Surface Coating; in 40 CFR part 60, subpart WW; from 04/20/2003 to 04/30/2006.

Dated: May 13, 2003.
Oscar Morales,
Director, Collection Strategies Division.

[FR Doc. 03-12867 Filed 5-21-03; 8:45 am]

BILLING CODE 6560-50-P